COMMISSION ON CIVIL RIGHTS

Agenda and Notice of Public Meeting of the South Carolina Advisory Committee

Notice is hereby given, pursuant to the provisions of the rules and regulations of the U.S. Commission on Civil Rights (Commission) and the Federal Advisory Committee Act (FACA), that a public hearing of the South Carolina Advisory Committee to the Commission (South Carolina Committee) will convene at 1 p.m. and adjourn at 4:30 p.m. on Monday, September 22, 2008, at Humphries Hall, 1301 Columbia College Drive, Columbia College, Columbia, South Carolina 29203. The purpose of the public hearing is for the South Carolina Committee to receive testimony from school officials and government education agency officials on the provision of supplemental educational services as well as parental notification of such services as required under the No Child Left Behind Act of 2001.

Members of the public are entitled to make written comments to the South Carolina Committee. Written comments should be sent to the Southern Regional Office of the Commission and received by Tuesday, September 30, 2008. The mailing address is: Southern Regional Office, U.S. Commission on Civil Rights, 61 Forsyth St., SW., Suite 18T40, Atlanta, GA 30303. Persons wishing to e-mail their written comments may do so to dhorne@usccr.gov. Persons who desire additional information should contact Peter Minarik, Regional Director, Southern Regional Office, at (404) 562-7000, or by e-mail at pminarik@usccr.gov.

Hearing-impaired persons who will attend the meetings and require the services of a sign language interpreter should contact the Regional Office at least ten (10) working days before the scheduled date of the meeting.

Records generated from these meetings may be inspected and reproduced at the Southern Regional Office, as they become available, both before and after the meeting. Persons interested in the work of this advisory committee are advised to go to the Commission's Web site, http://www.usccr.gov, or to contact the Southern Regional Office at the above e-mail or street address.

The meetings will be conducted pursuant to the provisions of the rules and regulations of the Commission and FACA.

Dated in Washington, DC, August 28, 2008
Christopher Byrnes,
Chief, Regional Programs Coordination Unit.

[FR Doc. E8-20426 Filed 9-3-08; 8:45 am]

BILLING CODE 6335-01-P